NATIONAL AERONAUTICS AND SPACE ADMINISTRATION

[Notice (20-061)]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Monday, August 17, 2020, 10:00 a.m. to 6:00 p.m.; and Tuesday, August 18, 2020, 10:00 a.m. to 6:00 p.m.; Eastern Time.

ADDRESSES: Virtual meeting via dial-in teleconference and WebEx only.

FOR FURTHER INFORMATION CONTACT: Ms. Karshelia Henderson, Science Mission Directorate, NASA Headquarters, Washington, DC 20546, (202) 358-2355, fax (202) 358-2779, or khenderson@nasa.gov.

SUPPLEMENTARY INFORMATION: As noted above, this meeting will be available telephonically and by WebEx only. You must use a touch-tone phone to participate in this meeting. Any interested person may call the USA toll free conference call number 1-800-779-9966 or toll number 1-517-645-6359, passcode 5255996, on both days, to participate in this meeting by telephone. The WebEx link is https://nasaenterprise.webex.com/; the meeting number is 901 917 366 and the password is PAC@Aug17+18 (case sensitive) on both days. The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2020-14465 Filed 7-6-20; 8:45 am]

BILLING CODE 7510-13-P